DEPARTMENT OF JUSTICE

Office of Juvenile Justice and Delinquency Prevention

[OJP (OJJDP) Docket No. 1393]

Program Announcement for the Nonparticipating State Program, Wyoming

AGENCY: Office of Juvenile Justice and Delinquency Prevention, Office of Justice Programs, Justice.

ACTION: Notice of solicitation.

SUMMARY: The Office of Juvenile Justice and Delinquency Prevention (OJJDP), pursuant to the provisions of the Juvenile Justice and Delinquency Prevention (JJDP) Act, is issuing the following program announcement and solicitation for applications from local public and private nonprofit agencies currently operating in the State of Wyoming. Because Wyoming does not participate in the JJDP Act, the state is not eligible to receive fiscal year (FY) Formula Grants program allocations, which total $1,229,200.¹ However, these funds are available to be competitively awarded through the Nonparticipating State Program. Eligible applicants include public and private nonprofit agencies operating in Wyoming that propose alternatives to secure confinement settings that do not adhere to the core requirements of the JJDP Act. These proposed programs must reflect the core requirements of the JJDP Act. Applicants are eligible to receive assistance awards for a 2-year period. Of the total amount of funds available, a minimum of $983,360 must be used by the grantee to contract with local public or private nonprofit agencies to provide delinquent and status offender populations with local community-based placement alternatives to adult jails and lockups. Up to $245,840 may be retained by the grantee to manage the contracts and to coordinate and provide technical assistance and training to the local contractors funded under the Nonparticipating State Program.

¹ This total is based on state allocations of $647,000 (FY 2001) and $646,000 (FY 2002), minus $63,800, which has been awarded directly to the Wyoming Department of Family Services to support the activities of the Wyoming State Advisory Group Council on Juvenile Justice.

The grantee will be required to contract with American Indian tribes for at least the same amount ($29,838) that the State of Wyoming would have been required to disburse to tribes under the JJDP Act. The financial assistance provided by this program requires no matching contribution in accordance with Part C of Title II of the JJDP Act.

DATES: Applications must be received by March 24, 2004.

FOR FURTHER INFORMATION CONTACT: Dennis Mondoro, Compliance Monitoring Coordinator, State Relations and Assistance Division, Office of Juvenile Justice and Delinquency Prevention, at 202-307-5924 or Mondorod@ojp.usdoj.gov.

SUPPLEMENTARY INFORMATION:

Purpose

The JJDP Act, as amended through 2002, establishes four core requirements:

(1) Deinstitutionalizing status offenders.

(2) Removing juveniles from adult jails and lockups.

(3) Separating juveniles and adults in institutions.

(4) Addressing disproportionate minority contact (DMC), when it exists.

Meeting these core requirements is essential to creating a fair and equitable juvenile justice system that advances the goals of the JJDP Act. The purpose of this program is to help Wyoming develop a range of secure and nonsecure alternatives to confinement and revise associated policies to ensure compliance with the core requirements of the JJDP Act.

Background

Wyoming historically has not been able to successfully address the core requirements of the JJDP Act due to state laws that sanction violations, a lack of local policies that promote the coordination of available resources, and a limited number of alternative resources available to communities. Because of Wyoming's inability to address the core requirements of the JJDP Act, the state did not submit a Formula Grants Program plan for the FY 2001 and FY 2002 Formula Grants Program allocations. The statutory requirements pertaining to states that do not submit a Formula Grants Program plan are as follows:

Pursuant to section 223(d) of the JJDP Act of 2002, if a state chooses not to submit a Formula Grants Program plan, fails to submit a plan, or submits a plan that does not meet the requirements of the JJDP Act, the OJJDP Administrator shall make the Formula Grants Program fund allotment available, under section 222(a) of the JJDP Act, to public or private nonprofit agencies within the state. The funds must be used solely for the purpose of achieving compliance with the following core requirements of the JJDP Act:

Section 223(a)(11) requires that juveniles who are charged with or who have committed offenses that would not be criminal if committed by an adult, alien juveniles in custody, and nonoffenders such as dependent or neglected children, shall not be placed in secure detention facilities or secure correctional facilities. This section does not pertain to juveniles who are charged with a violation of section 922(x) of Title 18 or a similar state law, juveniles who are charged with or who have committed a violation of a valid court order, or juveniles who are held in accordance with the Interstate Compact on Juveniles.

Section 223(a)(12) provides that juveniles alleged or found to be delinquent, and those within the purview of section 223(a)(11) above, shall not be detained or confined in any institution in which they have contact with adults incarcerated because they have been convicted of a crime or are awaiting trial on criminal charges.

Section 223(a)(13) provides that no juvenile shall be detained or confined in any jail or lockup for adults. The OJJDP Administrator may, however, declare exceptions with regard to the detention of juveniles accused of nonstatus offenses who are awaiting an initial court appearance, provided that such exceptions are limited to areas that are in compliance with section 223(a)(12). Such exceptions are also limited to areas that are outside a standard metropolitan statistical area; have no existing acceptable alternative placement available; are located where travel conditions (e.g., a long distance or a lack of highway, road, or other ground transportation) do not allow for court appearances within 48 hours, so that a brief (not to exceed 48 hours) delay is excusable; or are located where unsafe conditions exist (e.g., severely adverse, life-threatening weather conditions that do not allow for reasonably safe travel), in which case the time for an appearance may be delayed until 24 hours after the time that such conditions allow for reasonably safe travel.

Section 223(a)(22) provides that states address juvenile delinquency prevention efforts and system-improvement efforts designed to reduce, without establishing or requiring numerical standards or quotas, the disproportionate number of juvenile members of minority groups who come in contact with the juvenile justice system.

For more information about the regulatory exceptions to the provisions of sections 223(a)(11), (12), (13), and (22), please contact Dennis Mondoro, Compliance Monitoring Coordinator, State Relations and Assistance Division, Office of Juvenile Justice and Delinquency Prevention, at 202-307-592 or Mondorod@ojp.usdoj.gov.

Goal

In accordance with section 223(d) of the JJDP Act, the goal of this program is to help Wyoming develop a range of secure and nonsecure alternatives to confinement and revise associated policies to ensure that the core requirements of the JJDP Act are met.

Objectives

Local jurisdictions may be using secure facilities to detain or confine juveniles in a manner inconsistent with sections 223(a)(11), (12), and (13) of the JJDP Act. To address this issue, the following actions may be appropriate:

• Develop local and statewide policies regarding juveniles in secure confinement that are consistent with sections 223(a)(12) and (13) and that address violations of section 223(a)(11) of the JJDP Act.

• Increase coordination and cooperation within the juvenile justice system by involving schools, law enforcement officials, prosecutors, judges, jail and corrections officials, public and private service providers, and local public interest groups in reform efforts. A lack of coordination and cooperation often contributes to the placement of juveniles in jails and lockups in violation of sections 223(a)(11), (12), and (13) of the JJDP Act.

• Create a flexible network of services and programs that responds to local jurisdictions' needs and capabilities. This network should focus on jurisdictions with the most difficult barriers to meeting the core requirements of the JJDP Act.

• Create alternative services that can be sustained over time with local resources. These services include, but are not limited to, the following:

• The availability of appropriate secure juvenile facilities for the detention of juvenile offenders.

• Intensive supervision in a child's home as a placement alternative and the use of home detention, including electronic monitoring, when safe and appropriate.

• Emergency foster care, shelter care, group care, and independent living arrangements.

• Crisis intervention services, short-term residential crisis intervention programs, and nonsecure holdovers that can be used for conflict mediation, emergency holding, and the provision of emergency attention for youth with physical or emotional problems.

The JJDP Act of 2002 requires states to address juvenile delinquency prevention efforts and system-improvement efforts designed to reduce, without establishing or requiring numerical standards or quotas, the disproportionate number of juvenile members of minority groups who come into contact with the juvenile justice system. Recognizing the complexity of this issue, OJJDP requires that when a state determines that disproportionate minority contact (DMC) exists, the state must provide in its Formula Grants Comprehensive 3-Year Plan and Plan Updates a description of specific delinquency prevention and system-improvement efforts that are designed to reduce DMC within its juvenile justice system, including law enforcement, courts, and corrections. In lieu of a 3-Year Plan, the applicant should describe the extent of the DMC problem, if one exists, in the state and describe activities to be undertaken during the project period to reduce DMC.

Eligibility Requirements

Eligible applicants include public and private nonprofit agencies operating in Wyoming that propose alternatives to secure confinement settings that do not adhere to the core requirements of the JJDP Act.

Application Procedures

The Office of Justice Programs (OJP) requires that applications be submitted through its online Grants Management System (GMS). This online application system is designed to streamline the processing of requests for funding. A toll-free telephone number (888-549-9901) is available to provide applicants with technical assistance as they work through the online application process.

Beginning October 1, 2003, a Dun and Bradstreet (D&B) Data Universal Numbering System (DUNS) number must be included in every application for a new award or renewal of an award. An application will not be considered complete until a valid DUNS number is provided by the applicant. Individuals who would personally receive a grant or cooperative agreement from the federal government are exempt from this requirement.

Organizations should verify that they have a DUNS number or take the steps necessary to obtain one as soon as possible. Applicants can receive a DUNS number at no cost by calling the dedicated toll-free DUNS number request line at 800-333-0505.

Applicants should use the following application guidelines when preparing their application for this cooperative agreement. Applications must be electronically submitted to OJP through GMS no later than 5 p.m., ET, on March 24, 2004. However, in order to allow adequate time to register with GMS, applicants must create a “user profile” before March 9, 2004. Applicants who have previously registered with GMS and have a GMS password should log on to GMS prior to March 9, 2004 to determine whether the password is still valid. If the password has expired, follow the on-screen instructions or call the GMS Hotline (888-549-9901). OJJDP will begin accepting applications immediately. Applications submitted via GMS must be in the following word processing formats: Microsoft Word (“.doc”), PDF files (“.pdf”), or Text Documents (“.txt”).

Selection Criteria

All applications will be peer reviewed. OJJDP will review peer review results, and the U.S. Department of Justice will make the final award determinations. Applicants will be evaluated and rated by a peer review panel according to the following criteria:

• Budget (10 points).

• Problem To Be Addressed (15 points).

• Goals and Objectives (15 points).

• Project Design, including Coordination of Federal Efforts (30 points).

• Management and Organizational Capability (30 points).

A completed application will include the following program attachments:

Attachment #1: Budget Detail Worksheet

Budget (10 points): The proposed 24-month budget must be complete, detailed, reasonable, allowable, and cost-effective in relation to the activities described in this solicitation.

Attachment #2: Program Narrative

The narrative portion of this application must not exceed 25 pages.

Problem To Be Addressed (15 points): The applicant must demonstrate a clear understanding of the core requirements of the JJDP Act of 2002 and the manner in which they are currently being addressed or not addressed in jurisdictions throughout the state.

Goals and Objectives (15 points): The applicant must clearly outline the specific goals and objectives to be achieved by the project. Simply restating the goals and objectives given in this solicitation is not adequate.

Project Design (including Coordination of Efforts) (30 points): The project design must describe how the applicant will have an effect on the following:

• State laws affecting the placement of juveniles in adult jails and lockups, status offenders and nonoffenders in secure detention or correctional facilities, and the issues surrounding the removal of such juveniles from those facilities.

• State and local jurisdictions' compliance in relation to the measurable core requirements of the JJDP Act involving the development of alternative placements to adult jails and lockups.

• State legislative, judicial, and executive branch activities related to the supervision and protection of status offenders and nonoffenders and jail removal.

• The implementation of delinquency prevention and system-improvement efforts to reduce disproportionate minority contact (DMC) within the juvenile justice system, and the ability to evaluate the effectiveness of such efforts and to monitor DMC trends over time.

• The establishment and maintenance of a working relationship between the applicant, the Wyoming State Advisory Group, and the Wyoming Department of Family Services, Division of Juvenile Services, to coordinate and enhance the project's statewide efforts to meet the JJDP Act's core requirements.

Coordination of Federal Efforts. To encourage better coordination among federal agencies in addressing state and local needs, the U.S. Department of Justice (DOJ) is requiring applicants to provide information on the following: (1) Active federal grant award(s) supporting this or related efforts, including awards from DOJ; (2) any pending application(s) for federal funds for this or related efforts; and (3) plans for coordinating any funds described in item (1) or (2) with the funding sought by this application. For each federal award, applicants must include the program or project title, the federal grantor agency, the amount of the award, and a brief description of its purpose.

The term “related efforts” is defined for these purposes as one of the following:

• Efforts for the same purpose (i.e., the proposed award would supplement, expand, complement, or continue activities funded with other Federal grants).

• Another phase or component of the same program or project (e.g., to implement a planning effort funded by other Federal funds or to provide a substance abuse treatment or education component within a criminal justice project).

• Services of some kind (e.g., technical assistance, research, or evaluation) to the program or project described in the application.

Attachment #3: Other Program Attachments

Management and Organizational Capability (30 points): Applicants must demonstrate that they are eligible to compete for an award on the basis of eligibility criteria established in this solicitation.

Organizational experience. Applicants must concisely describe their experience with respect to the eligibility criteria. Applicants must demonstrate how their experience and capabilities will enable them to achieve the goals and objectives of this initiative.

Capability of working with other organizations in the state. Applicants must demonstrate that they have discussed this program with local and state-elected public officials or their staffs; the Wyoming State Advisory Group; the Wyoming Department of Family Services, Division of Juvenile Services; key decisionmakers in the juvenile justice system such as juvenile court judges, associations of those involved in juvenile justice, the boards of public and private youth-service providers; and other groups whose cooperation or participation is essential to the success of the program. The applicant must describe how it will obtain the aforementioned cooperation or participation.

Financial Capability. OJP requires each private nonprofit applicant to demonstrate that its organization has or can establish fiscal controls and accounting procedures that ensure that federal funds available under this announcement are properly disbursed and accounted for.

Project and Award Period

This project will be funded as a cooperative agreement for a 2-year budget and project period.

Award Amount

A cooperative agreement in the amount of $1,229,200 is available for the 2-year budget and project period.

Performance Measurement

To ensure compliance with the Government Performance and Results Act, Public Law 103-62, this solicitation notifies applicants that they will be required to collect and report on data that measure the results of the program implemented by this grant. To ensure the accountability of these data, for which OJP is responsible, grantees are required to provide the following data:

• The grantee will reduce Wyoming's Deinstitutionalization of Status Offender violations by 10 percent from the number of violations, as reported in the 2002 Compliance Monitoring Report, by the end of the project period.

• The grantee will reduce Wyoming's Sight and Sound Separation violations by 10 percent from the number of violations, as reported in the 2002 Compliance Monitoring Report, by the end of the project period.

• The grantee will reduce Wyoming's Jail Removal violations by 10 percent from the number of violations, as reported in the 2002 Compliance Monitoring Report, by the end of the project period.

Additional objectives leading to these outcomes should include:

• Development and/or support of alternatives to secure confinement for delinquent and status offending youth in those localities that inappropriately hold the majority of juveniles in the counties of Campbell and Natrona.

• Proposing and ultimately adopting a Wyoming statute that changes minors in possession of alcohol from a criminal offense to a status offense, and legislation that disallows the secure custody of juveniles in jails and prohibits the sight and sound contact between juvenile and adults in secure facilities.

Your assistance in obtaining this information will facilitate future program planning and will allow OJP to provide Congress with measurable program results of federally funded programs.

Faith-based and Community Organizations

It is OJP policy that faith-based and community organizations that statutorily qualify as eligible applicants under OJP programs are invited and encouraged to apply for assistance awards. Faith-based and community organizations will be considered for an award on the same basis as any other eligible applicants and, if they receive assistance awards, will be treated on an equal basis with non faith-based and community organization grantees in the administration of such awards. No eligible applicant or grantee will be discriminated against on the basis of its religious character or affiliation, religious name, or the religious composition of its board of directors or persons working in the organization.

Limited English Proficiency

National origin discrimination includes discrimination on the basis of limited English proficiency (LEP). To ensure compliance with Title VI and the Safe Streets Act, recipients are required to take reasonable steps to ensure that LEP persons have meaningful access to their programs. Meaningful access may entail providing language assistance services, including oral and written translation when necessary. The U.S. Department of Justice has issued guidance for grantees to assist them in complying with Title VI requirements. The guidance document can be accessed on the internet at http://www.lep.gov, or by contacting OJP's Office for Civil Rights at 202-307-0690, or by writing to the following address: Office for Civil Rights, Office of Justice Programs, U.S. Department of Justice, 810 7th Street NW., Eighth Floor, Washington, DC 20531.

Lobbying

The Anti-Lobbying Act, 18 U.S.C. 1913, recently was amended to expand significantly the restriction on use of appropriated funding for lobbying. This expansion also makes the anti-lobbying restrictions enforceable via large civil penalties, with civil fines between $10,000 and $100,000 per each individual occurrence of lobbying activity. These restrictions are in addition to the anti-lobbying and lobbying disclosure restrictions imposed by 31 U.S.C. 1352.

The Office of Management and Budget (OMB) is currently in the process of amending the OMB cost circulars and the common rule (codified at 28 CFR part 69 for DOJ grantees) to reflect these modifications. However, in the interest of full disclosure, all applicants must understand that no federally appropriated funding made available under this grant program may be used, either directly or indirectly, to support the enactment, repeal, modification or adoption of any law, regulation, or policy, at any level of government, without the express approval by OJP. Any violation of this prohibition is subject to a minimum $10,000 fine for each occurrence. This prohibition applies to all activity, even if currently allowed within the parameters of the existing OMB circulars.

Catalog of Federal Domestic Assistance (CFDA) Number

For this program, the CFDA number, which is required on Standard Form 424, is 16.541.

Due Date

Applicants are responsible for ensuring that the application is received by 5 p.m. ET on March 24, 2004.

Dated: February 17, 2004.
J. Robert Flores,
Administrator, Office of Juvenile Justice and Delinquency Prevention.

[FR Doc. 04-3821 Filed 2-20-04; 8:45 am]

BILLING CODE 4410-18-P